DEPARTMENT OF HOMELAND SECURITY

Federal Emergency Management Agency

44 CFR Part 67

[Docket No. FEMA-P-7631]

Proposed Flood Elevation Determinations

AGENCY: Federal Emergency Management Agency (FEMA), Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, flood insurance, reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | *Elevation in feet (NAVD): Existing | *Elevation in feet (NAVD): Modified | Communities affected
Mile Branch:
Approximately 1,320 feet downstream of the Burlington Northern & Santa Fe Railway | None | *993 | City of Bolivar, Polk County (Unincorporated Areas).
Approximately 1,050 feet upstream of 103rd Road | None | *1,075 |
Mile Branch Tributary No. 2:
Approximately 775 feet downstream of West Parkview | None | *1,005 | City of Bolivar, Polk County (Unincorporated Areas).
Approximately 1,520 feet upstream of West Parkview | None | *1,046 |
Mile Branch Tributary No. 3:
At confluence with Mile Branch | None | *1,012 | City Bolivar.
At Limit of Detailed Study | None | *1,056 |
Mile Branch Tributary No. 4:
At confluence with Mile Branch | None | *1,024 | City Bolivar.
At Limit of Detailed Study | None | *1,060 |
Mile Branch Tributary No. 6:
At confluence with Mile Branch | None | *1,046 | City Bolivar.
At Limit of Detailed Study | None | *1,064 |
Mile Branch Tributary No. 7:
At confluence with Mile Branch | None | *1,068 | City Bolivar.
At Limit of Detailed Study | None | *1,078 |
Southern Tributary to Town Branch:
Approximately 2,440 feet downstream of Buffalo Street | None | *996 | City of Bolivar, Polk County (Unincorporated Areas).
Approximately 600 feet upstream of Circle Drive | None | *1,052 |
Southern Tributary to Town Branch—Tributary No. 1:
At confluence with Southern Tributary to Town Branch | None | *1,036 | City Bolivar.
At Limit of Detailed Study | None | *1,061 |
Town Branch:
Approximately 1,750 feet downstream of Broadway Street (State Highway 32) | None | *980 | City of Bolivar, Polk County (Unincorporated Areas).
Approximately 1,500 feet upstream of Lakewood Drive | None | *1,081 |
Town Branch Tributary No. 1:
Approximately 150 feet downstream of East Walnut Street | None | *1,027 | City Bolivar.
Approximately 50 feet upstream of Buffalo Street | None | *1,049 |
Town Branch Tributary No. 2:
Approximately 135 feet downstream from Jefferson Street | None | *1,033 | City Bolivar.
At Burlington Northern & Santa Fe Railway | None | *1,055 |
Town Branch Tributary No. 3:
At confluence with Town Branch | None | *1,070 | City Bolivar.
At Limit of Detailed Study | None | *1,081
Polk County (Unincorporated Areas)
Maps available for inspection at 102 East Broadway Street, Room 11, Bolivar, MO.
Send comments to Mr. Denzil Roberts, Presiding Commissioner, 102 East Broadway Street, Room 12, Bolivar, MO 65613.
City of Bolivar
Maps available for inspection at City Hall, 345 South Main Street, Bolivar, MO.
Send comments to the Honorable Charles Ealy, City Hall, 345 South Main Street, Bolivar, MO 65613.
*North American Vertical Datum.

(Catalog of Federal Domestic Assistance No. 83.100, “Flood Insurance”)

Dated: May 9, 2003.
Anthony S. Lowe,
Mitigation Division Director, Emergency Preparedness and Response Directorate.

[FR Doc. 03-12580 Filed 5-19-03; 8:45 am]

BILLING CODE 6718-04-P